GENERAL SERVICES ADMINISTRATION

[Notice-PBS-2020-07; Docket No. 2020-0002; Sequence No. 28]

Notice of Availability for the Final Environmental Assessment for the Appraisers Building and U.S. Custom House Limited Scope Repair & Alteration Project in San Francisco, California

AGENCY: General Services Administration (GSA).

ACTION: Notice of availability.

SUMMARY: This notice announces the availability of the Final Environmental Assessment (EA) for the proposed Appraisers Building and U.S. Custom House Limited Scope Repair & Alteration Project, San Francisco, California. The Final EA analyzes the potential environmental impacts resulting from proposed limited scope repairs and alterations associated with the Appraisers Building (630 Sansome Street) and U.S. Custom House (555 Battery Street). The proposed action would repair, modify, or replace certain building improvements and systems to improve certain building systems to current building code and safety standards, as well as to prolong their useful life. Based on its finding of no significant impacts, GSA has determined that an Environmental Impact Statement need not be prepared.

DATES: The availability period for the Final EA ends on September 30th, 2020.

ADDRESSES: The Final EA is available electronically for public review at https://www.gsa.gov/about-us/regions/welcome-to-the-pacific-rim-region-9/buildings-and-facilities/california/us-appraisers-building and https://www.gsa.gov/about-us/regions/welcome-to-the-pacific-rim-region-9/buildings-and-facilities/california/us-custom-house-san-francisco (The Final EA is located under the “Current Projects” section).

Questions or comments concerning the Final EA should be directed to: Osmahn Kadri, Regional Environmental Quality Advisor/NEPA Project Manager, c/o Melanie Hernandez, 169 Saxony Road, Suite 214, Encinitas, CA 92024, or via email to osmahn.kadri@gsa.gov.

FOR FURTHER INFORMATION CONTACT: Osmahn Kadri, Regional Environmental Quality Advisor/NEPA Project Manager, GSA, at osmahn.kadri@gsa.gov or 415-522-3617.

SUPPLEMENTARY INFORMATION:

Background

The Project is located at 630 Sansome Street (Appraisers Building) and 555 Battery Street (U.S. Custom House), San Francisco, California. The Project involves two adjacent historical buildings in Downtown San Francisco, California—the Appraisers Building located at 630 Sansome Street, and the U.S. Custom House located at 555 Battery Street. The Project is proposed in order to improve certain systems of the Appraisers Building and U.S. Custom House up to current building code, safety standards and serviceable condition and to prolong their useful life. Both buildings contain certain building elements and building systems that, due to age, advancement in technologies, failure, or need for operational upgrades, must be addressed.

The Final EA analyzes an Action Alternative and a No Action Alternative. The Action Alternative would repair, modify, or replace certain building improvements and systems to improve certain building systems to current building code and safety standards, as well as to prolong their useful life. The limited scope repairs would address deficiencies in the following categories: Electrical; Fire Protection; Architectural Barriers Act Accessibility Standard (ABAAS) Compliance; Curtain Walls; Windows; Roofing; Overhang Canopy; Elevators; Exterior Cladding; Subbasement Water Intrusion; Building Systems—Mechanical & Plumbing; and Window Washing System. Under the No Action Alternative, the limited scope repairs and alterations to the existing Appraisers Building and U.S. Custom House would not occur.

The Draft EA was made publicly available on January 31, 2020 for a 30-day period. The public review period closed on March 2, 2020. The Notice of Availability for the Draft EA was published in the Federal Register at 85 FR 5660 on January 31, 2020. The Draft EA was also available for review at the Chinatown Library, 1135 Powell Street, San Francisco, CA 94108. In preparing this Final EA, GSA did not receive any public comments on the Draft EA during the public review period.

After careful consideration of the environmental analysis and associated environmental effects of the Proposed Action Alternative and No Action Alternative, the purpose and need for the Project, and no comments received on the Draft EA, GSA will be implementing the Proposed Action Alternative.

Finding

Pursuant to the provision of GSA Order ADM 1095.1F, the PBS NEPA Desk Guide, and the regulations issued by the Council of Environmental Quality, (40 CFR parts 1500 to 1508), this notice advises the public of our finding that the Proposed Action will not significantly affect the quality of the human environment.

Basis for Finding

The environmental impacts of the proposed repairs and alterations were considered in the Final EA pursuant to the National Environmental Policy Act (NEPA) and the CEQ regulations implementing NEPA. No significant impacts on the environment would occur with implementation of best management practices and avoidance, minimization, and mitigation measures identified in the Final EA.

The Final EA and Finding of No Significant Impact (FONSI) can be viewed on the GSA website at https://www.gsa.gov/about-us/regions/welcome-to-the-pacific-rim-region-9/buildings-and-facilities/california/us-appraisers-building and https://www.gsa.gov/about-us/regions/welcome-to-the-pacific-rim-region-9/buildings-and-facilities/california/us-custom-house-san-francisco (The Final EA is located under the “Current Projects” section).

The FONSI will be signed thirty (30) days after the publication of this notice, provided that no information leading to the contrary finding is received or comes to light during this period.

Dated: August 11, 2020.
Jared Bradley,
Director, Portfolio Management Division, Pacific Rim Region, Public Buildings Service.

[FR Doc. 2020-17804 Filed 8-13-20; 8:45 am]

BILLING CODE 6820-YF-P